DEPARTMENT OF HOUSING AND URBAN DEVELOPMENT

[Docket No. FR-5849-N-03]

Notice of Federal Advisory Committee Manufactured Housing Consensus Committee Structure and Design Subcommittee Teleconference

AGENCY: Office of the Assistant Secretary for Housing-Federal Housing Commissioner, HUD.

ACTION: Notice of a Federal Advisory Meeting; Manufactured Housing Consensus Committee (MHCC).

SUMMARY: This notice sets forth the schedule and proposed agenda for a teleconference meeting of the MHCC Structure and Design Subcommittee. The teleconference meeting is open to members of the public. The agenda provides an opportunity for members of the public to comment on the business before the MHCC Structure and Design Subcommittee.

DATES: The teleconference meeting will be held on July 15, 2015, from 1:00 p.m. to 4:00 p.m. EST. The teleconference numbers are: US toll-free:1-866-622-8461, and Participant Code: 4325434.

FOR FURTHER INFORMATION CONTACT: Pamela Beck Danner, Administrator and Designated Federal Official (DFO), Office of Manufactured Housing Programs, Department of Housing and Urban Development, 451 Seventh Street SW., Room 9168, Washington, DC 20410, telephone 202-708-6423 (this is not a toll-free number). Persons who have difficulty hearing or speaking may access this number via TTY by calling the toll-free Federal Information Relay Service at 800-877-8339.

SUPPLEMENTARY INFORMATION: Notice of this meeting is provided in accordance with the Federal Advisory Committee Act, 5. U.S.C. App. 10(a)(2) through implementing regulations at 41 CFR 102-3.150. The MHCC was established by the National Manufactured Housing Construction and Safety Standards Act of 1974 (42 U.S.C. 5401 et seq.) as amended by the Manufactured Housing Improvement Act of 2000 (Pub. L. 106-569). According to 42 U.S.C. 5403, as amended, the purposes of the MHCC are to:

• Provide periodic recommendations to the Secretary to adopt, revise, and interpret the Federal manufactured housing construction and safety standards;

• Provide periodic recommendations to the Secretary to adopt, revise, and interpret the procedural and enforcement regulations, including regulations specifying the permissible scope and conduct of monitoring; and

• Be organized and carry out its business in a manner that guarantees a fair opportunity for the expression and consideration of various positions and for public participation.

The MHCC is deemed an advisory committee not composed of Federal employees.

Public Comment: Members of the public wishing to make oral comments on the business of the MHCC Structure and Design Subcommittee are encouraged to register on or before July 10, 2015, by contacting Home Innovation, 400 Prince Georges Blvd., Upper Marlboro, MD 20774; Attention: Kevin Kauffman, email to: MHCC@HomeInnovation.com; phone number 1-888-602-4663. Written comments are encouraged. The MHCC strives to accommodate public comment to the extent possible within the time constraints of the meeting agenda. Advance registration is strongly encouraged. The MHCC will also provide an opportunity for public comment on specific matters before the MHCC Structure and Design Subcommittee.

Tentative Agenda

July 15, 2015, from 1:00 p.m. to 4:00 p.m. EST.

I. Call to Order and Roll Call

II. Opening Remarks: Subcommittee Chair and DFO

III. Approve minutes from the December 4, 2014 meeting

IV. Review items assigned to Structure and Design Subcommittee by MHCC

(The following are posted on HUD's MHCC Web site at: hud.gov/mhs)

Log #78—3280.304(a)—Materials

Log #100—3280.204—Kitchen Cabinet Protection

AI-3 Southern Yellow Pine Letter

V. Open Discussion

VI. Adjourn: 4:00 p.m.

Dated: June 16, 2015.
Pamela Beck Danner,
Administrator, Office of Manufactured Housing Programs.

[FR Doc. 2015-15127 Filed 6-18-15; 8:45 am]

BILLING CODE 4210-67-P